DEPARTMENT OF AGRICULTURE

Rural Utilities Service

Georgia Transmission Corporation: Notice of Availability of an Environmental Assessment

AGENCY: Rural Utilities Service, USDA.

ACTION: Notice of Availability of an Environmental Assessment (EA) for Public Review.

SUMMARY: The Rural Utilities Service (RUS), an Agency delivering the United States Department of Agriculture (USDA) Rural Development Utilities Programs, hereinafter referred to as Rural Development and/or the Agency, has prepared an Environmental Assessment (EA) related to possible financial assistance to Georgia Transmission Corporation (GTC) for the construction of approximately 38.7-miles of 500 kilovolt (kV) transmission line that would connect Georgia Power Company's existing Thomson Primary 500/230/115/46 kV Substation to Georgia Power Company's existing Warthen 500 kV Switching Station. GTC is requesting Rural Development provide financial assistance for the proposed project located in McDuffie, Warthen, Glascock and Washington Counties, Georgia.

DATES: Written comments on this notice must be received on or before June 2, 2008.

ADDRESSES: To obtain copies of the EA, or for further information, contact: Stephanie Strength, Environmental Protection Specialist, USDA, Rural Development Utilities Programs, 1400 Independence Avenue, SW., Stop 1571, Washington, DC 20250-1571, phone (202) 720-0468, e-mail stephanie.strength@wdc.usda.gov or Gayle Houston, Environmental and Regulatory Coordinator, GTC, 2100 East Exchange Place, Tucker, Georgia 30084-5336, phone (770) 270-7748, e-mail gayle.houston@gatrans.com. A copy of the EA may be viewed online at the Agency's Web site: http://www.usda.gov/rus/water/ees/ea.htm and at the following locations:

Jefferson Electric Membership Cooperative, Highway 17 North, Wrens, GA 30833, (706) 547-2167.

Washington Electric Membership Corporation, 238 Harris Street, Sandersville, GA 31082, (478) 552-5552.

Glascock County Public Library, 738 Railroad Avenue, Gibson, GA 30810, Phone: 706-598-9837.

Harlem Library, 375 North Louisville Street, Harlem, GA 30814, Phone: 706-556-9795.

Hancock County Library, 403 East Broad Street, Sparta, GA 31087, Phone: 706-444-5389.

Rosa M. Tarbutton Memorial Library, 314 South Harris Street, Sandersville, GA 31082, Phone: 478-552-6324.

Thomson McDuffie County Library, 338 Main Street, Thomson, GA 30824, Phone: 706-595-1341.

Warren County Library, 101 Warren Street, Warrenton, GA 30828, Phone: 706-465-2656.

SUPPLEMENTARY INFORMATION: GTC proposes to construct a 38.7-mile, 500 kV Transmission Line on a 150-foot right-of-way with structures 80 to 150-feet out-of-ground to distribute power to the Augusta, Georgia area. The preferred route is the alternative with the least impact to the environment and communities in the area. The preferred route begins at the existing Thomson 500/230/115/46 kV Substation located at the intersection of Randall-Davis Road and Davis Road in Thomson, GA and follows an existing 46 kV Transmission Line southwest for approximately one mile. The route then turns in a westerly direction for 36 miles, crossing the Little Ogeechee River. The route turns northwest and terminates at the existing Warthen Switching Station located at 1600 Mills Lindsay School Road, Warthen, Georgia.

The EA concludes that the proposed Thomson-Warthen 500 kV Transmission Line would not have a significant impact on the human, cultural or natural environment.

Rural Development has reviewed and accepted the document as its EA of the proposed project. The EA is available for public review at addresses provided above in this Notice. Written questions and comments should be sent to USDA Rural Development at the mailing or e-mail addresses provided above in this Notice. Rural Development should receive comments on the EA in writing by June 2, 2008 to ensure that they are considered in its environmental impact determination.

Should USDA Rural Development determine, based on the EA of the proposed project, that the impacts of the construction and operation of the project would not have a significant environmental impact, it will prepare a Finding of No Significant Impact (FONSI). Public notification of a FONSI would be published in the Federal Register and in newspapers with circulation in the project area.

Any final action by Rural Development related to the proposed project will be subject to, and contingent upon, compliance with all relevant Federal, state and local environmental laws and regulations, and completion of the environmental review requirements in Rural Development's Environmental Policies and Procedures (7 CFR Part 1794).

Dated: April 22, 2008.
Mark S. Plank,
Director, Engineering and Environmental Staff, USDA/Rural Development/Utilities Programs.

[FR Doc. E8-9580 Filed 4-30-08; 8:45 am]

BILLING CODE 3410-15-P